AGENCY FOR INTERNATIONAL DEVELOPMENT

Bureau for Democracy, Conflict and Humanitarian Assistance; Office of Food for Peace; Announcement of FFP Guidance for FY2010 Title II Proposals for Emergency Relief and Recovery Activities in Zimbabwe; Notice

Pursuant to the Food for Peace Act of 2008, notice is hereby given that the FFP Guidance for FY2010 Title II Proposals for Emergency Relief and Recovery Activities in Zimbabwe will be available to interested parties for general viewing.

For individuals who wish to review, the FFP Guidance for FY2010 Title II Proposals for Emergency Relief and Recovery Activities in Zimbabwe will be available via the Food for Peace Web site: http://www.usaid.gov/our_work/humanitarian_assistance/ffp/zimbab.html on or about February 2, 2010. Interested parties can also receive a copy of the FFP Response to Zimbabwe Country Specific Guidance Comments by contacting the Office of Food for Peace, U.S. Agency for International Development, RRB 7.06-152, 1300 Pennsylvania Avenue, NW., Washington, DC 20523-7600.

Juli Majernik,
Grants Manager, Policy and Technical Division, Office of Food for Peace, Bureau for Democracy, Conflict and Humanitarian Assistance.

[FR Doc. 2010-1776 Filed 1-27-10; 8:45 am]

BILLING CODE P